NUCLEAR REGULATORY COMMISSION

[NRC-2013-0141]

Issuance of Regulatory Guide 1.124 and Regulatory Guide 1.130

AGENCY: Nuclear Regulatory Commission.

ACTION: Regulatory Guide; Issuance.

SUMMARY: The U.S. Nuclear Regulatory Commission (NRC) is issuing Revision 3 of Regulatory Guide (RG) 1.124, “Service Limits and Loading Combinations for Class 1 Linear-Type Supports,” and Revision 3 of RG 1.130, “Service Limits and Loading Combinations for Class 1 Plate-and-Shell-Type Supports.” There are no substantive changes to these regulatory guides. The revisions include an update of the Edition and Addenda of the American Society of Mechanical Engineers (ASME) Boiler and Pressure Vessel Code (B&PVC). Regulatory Guides 1.124 and 1.130 delineates levels of service limits and appropriate combinations of loadings associated with normal operation, postulated accidents, and specified seismic events for the design of Class 1 linear-type component and piping supports, and Class 1 plate-and-shell-type component and piping supports, respectively.

ADDRESSES: Please refer to Docket ID NRC-2013-0141 when contacting the NRC about the availability of information regarding these documents. You may access information related to these documents, which the NRC possesses and are publicly available, using any of the following methods:

• Federal Rulemaking Web site: Go to http://www.regulations.gov and search for Docket ID NRC-2013-0141. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Revision 3 of RG 1.124 and Revision 3 of RG 1.130 are available in ADAMS under Accession Nos. ML13141A666 and ML13141A667, respectively.

• NRC's PDR: You may examine and purchase copies of public documents at the NRC's Public Document Room O1-F21, One White Flint North, 11555 Rockville Pike, Rockville, Maryland 20852.

Regulatory guides are not copyrighted, and NRC approval is not required to reproduce them.

FOR FURTHER INFORMATION CONTACT: Hector Rodriguez-Luccioni, Office of Nuclear Regulatory Research, U.S. Nuclear Regulatory Commission, Washington, DC 20555-0001; telephone: 301-251-7685, email: Hector.Rodriguez-Luccioni@nrc.gov.

SUPPLEMENTARY INFORMATION:

I. Introduction

The NRC is issuing a revision to existing guides in the NRC's “Regulatory Guide” series. Regulatory guides were developed to describe and make available to the public information methods that are acceptable to the NRC staff for implementing specific parts of the agency's regulations, techniques that the staff uses in evaluating specific problems or postulated accidents, and data that the staff needs in its review of applications for permits and licenses.

The NRC is issuing Revision 3 of RG 1.124 (ADAMS Accession No. ML 13141A666) and Revision 3 of RG 1.130 (ADAMS Accession No. ML13141A667) as final regulatory guides without an opportunity for public comment, because the changes between Revision 2 and Revision 3 are non-substantive. The most significant change in Revision 3 of both regulatory guides is the approval for use of the 2007 Edition through the 2008 Addenda of the Boiler and Pressure Vessel Code (ASME B&PV Code), Section III, Division 1 (limited to the subject matters covered in each regulatory guide). The earlier revisions of both guides (Revision 2) approved for use the ASME B&PV Code, 2001 Edition through the 2003 Addenda. There were no changes from the 2001 Edition through the 2003 Addenda, to the 2007 Edition through the 2008 Addenda affecting the technical content of either of the two regulatory guides. The remaining changes reflected in Revision 3 of each regulatory guide are editorial in nature, to improve clarity and to provide for a new standardized format for the regulatory guides. Therefore, the NRC has determined that an opportunity for public comment is not necessary on Revision 3 of both RG 1.124 and RG 1.130.

II. Submitting Suggestions for Improvement of Regulatory Guides

The NRC typically seeks public comment on a draft version of a regulatory guide by announcing its availability for comment in the Federal Register. However, as explained on page 7 of NRC Management Directive 6.6 “Regulatory Guides,” (ADAMS Accession Number ML110330475) the NRC may directly issue a final regulatory guide without a draft version or public comment period if the changes to the regulatory guide are non-substantive.

Revision 3 of RG 1.124 and Revision 3 of RG 1.130 are being issued without public comment. However, you may at any time submit suggestions to the NRC for improvement of existing regulatory guides or for the development of new regulatory guides to address new issues. Suggestions can be submitted by the form available online at http://www.nrc.gov/reading-rm/doc-collections/reg-guides/contactus.html. Suggestions will be considered in future updates and enhancements of the regulatory guide.

III. Backfitting and Issue Finality

Issuance of this final regulatory guide does not constitute backfitting as defined in 10 CFR 50.109 (the Backfit Rule) and is not otherwise inconsistent with the issue finality provisions in 10 CFR part 52. Revision 3 of RG 1.124 and 1.130 approves for use the 2007 Edition through the 2008 Addenda of the Boiler and Pressure Vessel Code (ASME B&PV Code), Section III, Division 1 (limited to the subject matters covered in each regulatory guide). There were no changes from the 2001 Edition through the 2003 Addenda, to the 2007 Edition through the 2008 Addenda affecting the technical content of either of the two regulatory guides. Therefore, the revisions to these two regulatory guides do not constitute backfitting nor are they otherwise inconsistent with the issue finality provisions in 10 CFR part 52. The revisions to these two regulatory guides also include editorial changes to improve clarity and to provide a new standardized format for regulatory guides, and the approval for use of the 2007 Edition through the 2008 Addenda of the ASME B&PV Code, Section III, Division 1. These changes do not fall within the kinds of agency actions that constitute backfitting or are subject to limitations in the issue finality provisions of part 52. Accordingly, the NRC did not address the Backfit Rule or issue finality provisions of part 52 for these types of changes.

III. Congressional Review Act

These regulatory guides are rules as defined in the Congressional Review Act (5 U.S.C. 801-808). However, the Office of Management and Budget has not found them to be major rules as defined in the Congressional Review Act.

Dated at Rockville, Maryland, this 27th day of June, 2013.
For the Nuclear Regulatory Commission.
Thomas H. Boyce,
Chief, Regulatory Guide Development Branch, Division of Engineering, Office of Nuclear Regulatory Research.

[FR Doc. 2013-16292 Filed 7-5-13; 8:45 am]

BILLING CODE 7590-01-P